FEDERAL COMMUNICATIONS COMMISSION

47 CFR Parts 73 and 76

[MM Docket No. 98-204, DA 02-1007]

Revision of Broadcast and Cable EEO Rules and Policies

AGENCY: Federal Communications Commission.

ACTION: Proposed rule; extension of reply comment period.

SUMMARY: In this document, the Media Bureau (Bureau) grants a motion for procedural relief filed by the Minority Media and Telecommunications Council (MMTC). The intended effect is to grant an extension of the reply comments filing deadline.

DATES: Reply comments are due May 29, 2002.

ADDRESSES: Federal Communications Commission, Office of the Secretary, 445 12th Street, SW, Washington, DC 20554.

FOR FURTHER INFORMATION CONTACT: Estella Salvatierra, Media Bureau. (202) 418-1450.

SUPPLEMENTARY INFORMATION: 1. This is a synopsis of the Media Bureau's Review of the Commission's Broadcast and Cable Equal Employment Opportunity Rules and Policies, DA 02-1007, released May 1, 2002. On December 21, 2001, the Commission released a Second Notice of Proposed Rule Making, MM Docket No. 98-204, 67 FR 1704 (January 14, 2002) (Second NPRM) requesting comment on various proposals concerning the Commission's broadcast and cable EEO rules and policies.

2. On April 25, 2002, MMTC filed a Motion for Extension of Reply Comment Deadline requesting an extension of time for the filing date for reply comments.

3. MMTC requests that the Commission extend the reply comment deadline from May 15, 2002, to May 29, 2002. Because the Bureau believes that the public interest would be served by an extension of the reply comment period in this proceeding, we grant MMTC's request and extend the date for filing reply comments to May 29, 2002.

4. Accordingly, it is ordered that the Motion for Extension of Reply Comment Deadline filed by MMTC is granted.

5. It is therefore ordered that the date for filing reply comments in this proceeding is extended to May 29, 2002.

6. This action is taken pursuant to authority found in sections 4(i) and 303(r) of the Communications Act of 1934, as amended, 47 U.S.C. 4(i) and 303(r), and §§ 0.204(b), 0.283 and 1.46 of the Commission's rules, 47 CFR 0.204(b), 0.283 and 1.46.

Federal Communications Commission.
W. Kenneth Ferree,
Chief, Media Bureau.

[FR Doc. 02-11388 Filed 5-7-02; 8:45 am]

BILLING CODE 6712-01-P